DEPARTMENT OF AGRICULTURE

Forest Service

Establishment of Stumpy Point Purchase Unit, Phillips and Lee Counties, AK

AGENCY: Forest Service, USDA.

ACTION: Notice.

SUMMARY: On September 24, 2002, the Under Secretary for Natural Resources and Environment, Department of Agriculture, created the 1,510-acre Stumpy Point Purchase Unit in Phillips and Lee Counties, Arkansas. A copy of the establishment document, which includes the legal description of the lands within the purchase unit, appears at the end of this notice.

DATES: Establishment of this purchase unit was effective September 24, 2002.

ADDRESSES: A copy of the map depicting the lands within the boundary extension is on file and available for public inspection in the Office of the Director, Lands Staff, 4th Floor—Sidney R. Yates Federal Building, Forest Service, USDA, 201 14th Street, SW., Washington, DC 20250, between the hours of 8:30 a.m. and 4:30 p.m. on business days. Those wishing to inspect the maps are encouraged to call ahead to (202) 205-1248 to facilitate entry into the building.

FOR FURTHER INFORMATION CONTACT: Jack Craven, Lands Staff, Forest Service, (202) 205-1248.

SUPPLEMENTARY INFORMATION: Pursuant to the Secretary of Agriculture's authority under section 17, Public Law 94-588 (90 Stat. 2949), the Stumpy Point Purchase Unit was created in Phillips and Lee Counties, Arkansas.

Dated: October 24, 2002.
Gloria Manning,
Associate Deputy Chief, National Forest System.

Establishment of the Stumpy Point Purchase Unit

Phillips and Lee County, Arkansas

The following described lands lying adjacent to the Ozark-St. Francis National Forest are determined to be suitable for the protection of the watersheds of navigable streams and for other purposes in accordance with Section 6 of the Weeks Act of 1911 (16 U.S.C. 515). Therefore, in furtherance of the authority of the Secretary of Agriculture pursuant to the Weeks Act of 1911, as amended, including Section 17 of the National Forest Management Act of 1976 (Pub. L. 94-588; 90 Stat. 2961), these lands are hereby designated and established as the Stumpy Point Purchase Unit:

Property Description

Phillips County, Arkansas

All of the Northeast Quarter (NE ¼) of Section 1 lying North and East of the St. Francis River, less the levee right-of-way, and accretions thereto, in Township 1 South, Range 4 East.

All of Section 6 lying North and East of the St. Francis River, less the levee right-of-way, and accretions thereto; all of Section 4 and accretions thereto; and all of Section 5 and accretions thereto, all in Township 1 South, Range 5 East.

All of Section 7 lying North of the St. Francis River and accretions thereto; and all of Section 8 lying North of the St. Francis River and accretions thereto, all in Township 1 South, Range 5 East.

Lee County, Arkansas

The South half (S ½) of the Southeast Quarter (SE ¼) in Section 32, Township 1 North, Range 5 East; and the South half (S ½) of the Southwest Quarter (SW ¼) and all accretions thereto in Section 33, Township 1 North, Range 5 East.

Containing 1,510 acres, more or less.

Executed in Washington, DC, this 24th day of September, 2002.

David P. Tenney for:

Mark Rey,

Under Secretary, Natural Resources and Environment.

[FR Doc. 02-28757 Filed 11-12-02; 8:45 am]

BILLING CODE 3410-11-P